FEDERAL MARITIME COMMISSION

Meetings; Sunshine Act

Agency Holding the Meeting: Federal Maritime Commission.

Federal Register Citation of Previous Announcement: 74 FR 32934 (July 9, 2009)

Previously Announced Time and Date of the Meeting: July 14, 2009—10 a.m.

Change: Withdrawal of Item 3 in the Closed Session.

Contact Person For More Information: Karen V. Gregory, Secretary, (202) 523-5725.

Karen V. Gregory,
Secretary.

[FR Doc. E9-16961 Filed 7-14-09; 11:15 am]

BILLING CODE P